DEPARTMENT OF DEFENSE

Office of the Secretary

Defense Health Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Defense Health Board will take place.

DATES: Open to the public on Thursday, November 2, 2017 from 9:00 a.m. to 12:30 p.m. Open to the public on Thursday, November 2, 2017 from 1:30 p.m. to 5:00 p.m.

ADDRESSES: The meeting will be held at the Board Room, Naval Medical Center Portsmouth, 620 John Paul Jones Circle, Portsmouth, Virginia 23708 (Pre-meeting screening for installation access and registration required; see guidance in SUPPLEMENTARY INFORMATION, “Meeting Accessibility”).

FOR FURTHER INFORMATION CONTACT: CAPT Juliann Althoff, Medical Corps, US Navy, (703) 681-6653 (Voice), (703) 681-9539 (Facsimile), juliann.m.althoff.mil@mail.mil (Email). Mailing address is 7700 Arlington Boulevard, Suite 5101, Falls Church, Virginia 22042. Web site: http://www.health.mil/dhb. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: A copy of the agenda or any updates to the agenda for the November 2, 2017 meeting, will be available at the Defense Health Board's (DHB) Web site, https://health.mil/dhb. Any other materials presented in the meeting may be obtained at the meeting.

Purpose of the Meeting: The DoD is publishing this notice to announce a Federal Advisory Committee meeting of the DHB. The DHB provides independent advice and recommendations to maximize the safety and quality of, as well as access to, health care for DoD health care beneficiaries. The purpose of the meeting is to receive information briefings on current issues related to military medicine.

Agenda: Pursuant to 5 U.S.C. 552b and 41 CFR 102-3.140 through 102-3.165 and subject to availability of space, the meeting is open to the public from 9:00 a.m. to 12:30 p.m. and from 1:30 p.m. to 5:00 p.m. on November 2, 2017. The DHB anticipates receiving overview briefings on Navy Medicine East, Naval Medical Center Portsmouth, the Tidewater enhanced Multi-Service Market, Navy and Marine Corps Public Health Center, U.S. Fleet Forces Command Fleet Health Services, McDonald Army Health Center, the 633rd Medical Group, and Air Combat Command. Any changes to the agenda can be found at the link provided in this SUPPLEMENTARY INFORMATION section.

Meeting Accessibility: Seating is limited and is on a first-come basis. All members of the public who wish to attend the public meeting must register by emailing their name, rank/title, and organization/company to dha.ncr.dhb.mbx.defense-health-board@mail.mil or by contacting Ms. Camille Gaviola at (703) 681-6686 or camille.m.gaviola.civ@mail.mil no later than 12:00 p.m. on Thursday, October 26, 2017. Additional details will be required from all members of the public not having installation access. Special Accommodations: Individuals requiring special accommodations to access the public meeting should contact Ms. Camille Gaviola at least five (5) business days prior to the meeting so that appropriate arrangements can be made.

Written Statements: Any member of the public wishing to provide comments to the DHB may do so in accordance with section 10(a)(3) of the Federal Advisory Committee Act, 41 CFR 102-3.105(j) and 102-3.140, and the procedures described in this notice. Written statements may be submitted to the DHB Designated Federal Officer (DFO), CAPT Juliann Althoff, at juliann.m.althoff.mil@mail.mil and should be no longer than two type-written pages and include the issue, a short discussion, and a recommended course of action. Supporting documentation may also be included, to establish the appropriate historical context and to provide any necessary background information. If the written statement is not received at least five (5) business days prior to the meeting, the DFO may choose to postpone consideration of the statement until the next open meeting. The DFO will review all timely submissions with the DHB President and ensure that they are provided to members of the DHB before the meeting that is subject to this notice. After reviewing the written comments, the President and the DFO may choose to invite the submitter to orally present their issue during an open portion of this meeting or at a future meeting. The DFO, in consultation with the DHB President, may allot time for members of the public to present their issues for review and discussion by the DHB.

Dated: October 13, 2017.
Aaron Siegel,
Alternate OSD Federal Register Liaison Officer, Department of Defense.

[FR Doc. 2017-22606 Filed 10-17-17; 8:45 am]

BILLING CODE 5001-06-P